DEPARTMENT OF DEFENSE

Department of the Army

[Docket ID: USA-2013-0002]

Privacy Act of 1974; System of Records

AGENCY: Department of the Army, DoD.

ACTION: Notice to reinstate a System of Records.

SUMMARY: The Department of the Army proposes to reinstate a systems of records in its inventory of record systems to the Privacy Act of 1974 (5 U.S.C. 552a), as amended.

After review, it has been determined that the records covered under these previously deleted notices (see 77 FR 13571-13573, March 7, 2012) are still being maintained and are active; therefore this notice is being reinstated.

DATES: This proposed action will be effective on April 15, 2013 unless comments are received which result in a contrary determination. Comments will be accepted on or before April 15, 2013.

ADDRESSES: You may submit comments, identified by docket number and title, by any of the following methods:

* Federal Rulemaking Portal: http://www.regulations.gov.

Follow the instructions for submitting comments.

* Mail: Federal Docket Management System Office, 4800 Mark Center Drive, East Tower, 2nd Floor, Suite 02G09, Alexandria, VA 22350-3100.

Instructions: All submissions received must include the agency name and docket number or Regulatory Information Number (RIN) for this Federal Register document. The general policy for comments and other submissions from members of the public is of make these submissions available for public viewing on the Internet at http://www.regulations.gov as they are received without change, including any personal identifiers or contact information.

FOR FURTHER INFORMATION CONTACT: Mr. Leroy Jones, Jr., Department of the Army, Privacy Office, U.S. Army Records Management and Declassification Agency, 7701 Telegraph Road, Casey Building, Suite 144, Alexandria, VA 22315-3827 or by phone at 703-428-6185.

SUPPLEMENTARY INFORMATION: The Department of the Army system of records notices subject to the Privacy Act of 1974 (5 U.S.C. 552a), as amended, have been published in the Federal Register and are available from the address in FOR FURTHER INFORMATION CONTACT.

The Department of the Army proposes to reinstate a system of records in its inventory of records systems subject to the Privacy Act of 1974 (5 U.S.C. 552a), as amended. The previous system of records notice is being republished in its entirety, below. The reinstatement is not within the purview of subsection (r) of the Privacy Act of 1974 (5 U.S.C. 552a), as amended, which requires the submission of a new or altered system report.

Dated: March 12, 2013.
Aaron Siegel,
Alternate OSD Federal Register Liaison Officer, Department of Defense.

A0600-8-22 AHRC

System name:

Military Awards Case File.

System location:

U.S. Army Human Resources Command, 200 Stovall Street, Alexandria, VA 22332-0471. Segments exist at Army commands which have been delegated authority for approval of an award. Official mailing addresses may be obtained from the U.S. Army Human Resources Command, 200 Stovall Street, Alexandria, VA 22332-0471.

Categories of individuals covered by the system:

Military personnel on active duty, members of reserve components, U.S. civilians serving with U.S. Army units in a combat zone, and deceased former members of the U.S. Army.

Categories of records in the system:

Files include recommendations for an award; endorsements; award board approvals/disapprovals; citation texts; Department of Army letter orders/general orders; related papers supporting the award; correspondence among the Army; service member, and individuals having knowledge/information relating to the service member concerned or the act or achievement for which an award is recommended.

Authority for maintenance of the system:

10 U.S.C. Chapters 57 and 357, Decorations and Awards; 10 U.S.C. 3013, Secretary of the Army; Army Regulation 600-8-22, Military Awards; and E.O. 9397 (SSN), as amended.

Purpose(s):

To consider individual nominations for awards and/or decorations; record final action; maintain individual award case files.

Routine uses of records maintained in the system, including categories of users and the purposes of such uses:

In addition to those disclosures generally permitted under 5 U.S.C. 552a(b) of the Privacy Act of 1974, as amended, these records contained therein may specifically be disclosed outside the DoD as a routine use pursuant to 5 U.S.C. 552a(b)(3) as follows:

Information may be disclosed to public and private organizations including news media, which grant or publicize awards or honors.

The DoD Blanket Routine Uses set forth at the beginning of the Army's compilation of systems of records notices also apply to this system.

Policies and practices for storing, retrieving, accessing, retaining, and disposing of records in the system:

Storage:

Paper records in file folders and electronic storage media.

Retrievability:

By nominee's name, service number and/or Social Security Number.

Safeguards:

Records are maintained in locked file cabinets in secure buildings and are accessible only to designated personnel in the performance of their assigned duties.

Retention and disposal:

Documents related to providing information about awards given to individuals, i.e., announcements, lists, cards, and similar information destroy after 2 years.

Approval and disapproval authority:

Approved awards relating to wartime and combat activities are held permanently; Approved peacetime awards and all disapproved awards are retired to the Washington National Records Center and are destroyed after 25 years. Offices not within the disapproval or approval authority maintain records for 2 years then destroy. Proficiency awards are destroyed on transfer of the individual.

Public award cases:

Exercising approval, authority maintain records for 56 years then destroy; Non-approval authority offices maintain records for 2 years then destroy.

Special achievement awards:

Exercising awarding authority, maintain records for 5 years then destroy; Non-Award authority offices maintain for 2 years then destroy.

System manager(s) and address:

Commander, U.S. Army Human Resources Command, Awards Policy Division, 200 Stovall Street, Alexandria, VA 22332-0471.

Notification procedure:

Individuals seeking to determine whether information about themselves is contained in this system should address written inquiries to the Commander, U.S. Army Human Resources Command, Awards Policy Division, 200 Stovall Street, Alexandria, VA 22332-0471.

Individual should provide the full name, service number and/or Social Security Number, grade and branch of service, name of award/honor, and current address.

Record access procedures:

Individuals seeking access to information about themselves contained in this system should address written inquiries to the Commander, U.S. Army Human Resources Command, Awards Policy Division, 200 Stovall Street, Alexandria, VA 22332-0471.

Individual should provide the full name, service number and/or Social Security Number, grade and branch of service, name of award/honor, and current address.

Contesting record procedures:

The Army's rules for accessing records, and for contesting contents and appealing initial agency determinations are contained in Army Regulation 340-21; 32 CFR part 505; or may be obtained from the system manager.

Record source categories:

From Recommendation for Awards (DA Form 638) with supporting records, forms, statements, letters, and similar documents originated by persons other than the awardee and other individuals having information useful in making an award determination.

Exemptions claimed for the system:

None.

[FR Doc. 2013-06018 Filed 3-14-13; 8:45 am]

BILLING CODE 5001-06-P